DEPARTMENT OF THE INTERIOR

Fish and Wildlife Service

National Bald Eagle Management Guidelines

AGENCY: Fish and Wildlife Service, Interior.

ACTION: Notice of availability.

SUMMARY: This notice advises the public that National Bald Eagle Management Guidelines are available to the public.

ADDRESSES: Copies of the National Bald Eagle Management Guidelines can be obtained by writing to: Eliza Savage, U.S. Fish and Wildlife Service, Division of Migratory Bird Management, 4401 North Fairfax Drive, Mail Stop MBSP-4107, Arlington, VA 22203. The guidelines may also be obtained via the Internet at: http://www.fws.gov/migratorybirds/baldeagle.html.

FOR FURTHER INFORMATION CONTACT: Eliza Savage, Division of Migratory Bird Management, (see ADDRESSES section); or via e-mail at: Eliza_Savage@fws.gov; telephone: (703) 358-2329; or facsimile: (703) 358-2217.

SUPPLEMENTARY INFORMATION: In anticipation of the possible removal of the bald eagle from the list of threatened species under the Endangered Species Act (16 U.S.C. 1531 et seq.), the Service has developed National Bald Eagle Management Guidelines to provide guidance to land managers, landowners, and others as to how to avoid disturbing bald eagles. After delisting, the Bald and Golden Eagle Protection Act (Eagle Act) (16 U.S.C. 668-668d) becomes the primary law protecting bald eagles. The Eagle Act prohibits take of bald and golden eagles and provides a statutory definition of “take” that includes “disturb.”

The Service developed National Bald Eagle Management Guidelines, a draft of which was made available for public comment February 16, 2006 (71 FR 8309). We received 86 comments on the guidelines, which we took into consideration in developing this final document. The guidelines provide the public information to help prevent disturbance of bald eagles and recommend additional non-binding practices that can benefit bald eagles.

In addition to this notice, the Service is publishing three related documents elsewhere in today's Federal Register: a final rule, codifying the Eagle Act definition of “disturb”; a notice of availability of the final environmental assessment for the definition of “disturb”; and a proposed rule to codify additional take authorizations under the Eagle Act.

Dated: May 16, 2007.
Todd Willens,
Acting Assistant Secretary for Fish and Wildlife and Parks.

[FR Doc. 07-2695 Filed 6-4-07; 8:45 am]

BILLING CODE 4310-55-P